ENVIRONMENTAL PROTECTION AGENCY

[EPA-HQ-OPP-2005-0123; FRL-9909-29]

Methyl Bromide; Cancellation Order for Certain Pesticide Registrations and Amendment To Terminate a Certain Use; Amendment to Existing Stocks Provision

AGENCY: Environmental Protection Agency (EPA).

ACTION: Notice.

SUMMARY: EPA issued a cancellation order in the Federal Register of May 20, 2011 to, among other things, terminate use of products containing methyl bromide on golf courses. The effective date of cancellation for that use was December 31, 2013. The order provided that existing stocks of methyl bromide products that include the use on golf courses could be sold and distributed for 120 days after the effective date of cancellation, that is, until April 30, 2014. Two registrants have requested that EPA revise the cancellation order for the pesticide product registrations identified in Table 1 of Unit II to extend the last allowable date for sale and distribution of existing stocks of those products from April 30, 2014 to November 30, 2014 to allow sale and distribution of those existing stocks for golf course resurfacing during the 2014 use season. In this notice, EPA is amending the existing stocks provisions in the May 20, 2011 order to allow the sale or distribution of existing stocks of the identified methyl bromide products only for use on golf courses through November 30, 2014, and to limit the use of existing stocks of those products that are purchased after April 30, 2014 to use only on golf courses.

FOR FURTHER INFORMATION CONTACT: Susan Bartow, Pesticide Re-Evaluation Division (7508P), Office of Pesticide Programs, Environmental Protection Agency, 1200 Pennsylvania Ave. NW., Washington, DC 20460-0001; telephone number: (703) 603-0065; fax number: (703) 308-8005; email address: bartow.susan@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action.

B. How can I get copies of this document and other related information?

The docket for this action, identified by docket identification (ID) number EPA-HQ-OPP-2005-0123, is available at http://www.regulations.gov or at the Office of Pesticide Programs Regulatory Public Docket (OPP Docket) in the Environmental Protection Agency Docket Center (EPA/DC), EPA West Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. What action is the agency taking?

Methyl bromide is a broad-spectrum fumigant chemical that can be used as an acaricide, fungicide, herbicide, insecticide, nematicide, and vertebrate control agent. It is used most prevalently as a soil fumigant, but is also used as a postharvest treatment of commodities. In the Federal Register of May 20, 2011 (76 FR 29238) (FRL-8872-2), EPA published a cancellation order that terminated various uses of methyl bromide products. In letters dated January 20, 2014, two registrants, Soil Chemicals Corporation D/B/A Cardinal Professional Products and Trical, Inc., asked EPA to revise the provisions for existing stocks of certain products subject to that order. These registrations are listed in sequence by registration number in Table 1 of this unit.

Table 1—Methyl Bromide Product Cancellations Subject to This Notice
Registration No. | Product name | Company
8536-19 | Methyl Bromide 98% | Soil Chemicals Corporation D/B/A Cardinal Professional Products.
11220-17 | Methyl Bromide 89.5% | Trical, Inc.
11220-32 (previously identified as 8853-1) | MBC Concentrate Soil fumigant (previously identified as MBC Soil fumigant) | Trical, Inc. (previously identified as Hendrix and Dail, Incorporated).

Table 2 of this unit includes the names and addresses of record for the registrants of the products listed in Table 1 of this unit, in sequence by EPA company number. This number corresponds to the first part of the EPA registration numbers of the products listed in Table 1 of this unit.

Table 2—Registrants Requesting Revision of the Cancellation Order
EPA Company No. | Company name and address
8536 | Soil Chemicals Corporation D/B/A Cardinal Professional Products, P.O. Box 782, Hollister, CA 95024-0782.
11220 | Trical, Inc., P.O. Box 1327, Hollister, CA 95024-1327.

Soil Chemicals Corporation D/B/A Cardinal Professional Products, and Trical, Inc. have asked EPA to extend the last allowable date for the sale and distribution of existing stocks of the products identified above (as defined in the May 20, 2011 order) for use on golf courses from April 30, 2014 to November 30, 2014 to allow sale and distribution during the 2014 golf course use season.

EPA hereby modifies the May 20, 2011 cancellation order to permit the sale and distribution of existing stocks of the methyl bromide registrations identified in Table 1 of Unit II for use on golf courses. This notice:

1. Allows sale and distribution of existing stocks of the affected products until November 30, 2014;

2. Allows use of existing stocks of the products purchased prior to April 30, 2014 according to the directions on the label for the product until those stocks are exhausted; and

3. Allows use of existing stocks that were purchased after April 30, 2014 only on golf courses according to the directions for that use on the label for the product until those stocks are exhausted.

Provisions in the May 20, 2011 cancellation order that do not relate to use on golf courses are not affected by this revision.

III. What is the agency's authority for taking this action?

Section 6(a)(1) of FIFRA provides that the Administrator may permit the continued sale and use of existing stocks of a pesticide whose registration is canceled to such extent, under such conditions, and for such uses as the Administrator determines that such sale or use is not inconsistent with the purposes of the Act. In the May 20, 2011 cancellation order, EPA established various conditions and expiration dates for sale and use of existing stocks of methyl bromide products based on different use sites. This authority also allows EPA to revise those conditions so long as the continued sale and use of existing stocks of the canceled pesticides will not be inconsistent with the purposes of FIFRA.

List of Subjects

Environmental protection, Pesticides and pests.

Dated: April 16, 2014.
Michael Goodis,
Acting Director, Pesticide Re-Evaluation Division, Office of Pesticide Programs.

[FR Doc. 2014-09244 Filed 4-22-14; 8:45 am]

BILLING CODE 6560-50-P